DEPARTMENT OF LABOR

Employment and Training Administration

Job Corps: Final Finding of No Significant Impact Cassadaga Job Corps Center New Cafeteria Located at 8115 Glasgow Rd, Cassadaga, New York

AGENCY: Employment and Training Administration (ETA), Labor.

ACTION: Final Finding of No Significant Impact Cassadaga Job Corps Center New Cafeteria located at 8115 Glasgow Rd, Cassadaga, New York.

SUMMARY: Pursuant to the Council on Environmental Quality Regulations (40 CFR part 1500-08) implementing procedural provisions of the National Environmental Policy Act (NEPA), the Department of Labor, ETA, in accordance with 29 CFR 11.11(d), gives final notice of the proposed construction of the Cafeteria at the Cassadaga Job Corps Center, and that this project will not have a significant adverse impact on the environment. Public scoping was initiated with a notice in the Post Journal in Jamestown, New York on July 6, 2013. The scoping period extended for 30 days, ending on August 7, 2013. No public responses were received. No changes to the text of the environmental assessment (EA) have been made.

Implementation of the selected alternative will not have significant impacts on the human environment. The determination is sustained by the analysis in the EA, agency consultation, the inclusion and consideration of public review, and the capability of mitigations to reduce or avoid impacts. Any adverse environmental impacts that could occur are no more than minor in intensity, duration and context and less-than-significant. As described in the EA, there are no highly uncertain or controversial impacts, unique or unknown risks, significant cumulative effects or elements of precedence. There are no previous, planned, or implemented actions, which in combination with the selected alternative would have significant effects on the human environment. Requirements of NEPA have been satisfied and preparation of an Environmental Impact Statement is not required.

DATES: Effective Date: These findings are effective as of November 20, 2013.

FOR FURTHER INFORMATION CONTACT: William A Dakshaw, Department of Labor, 200 Constitution Avenue NW., Room N-4460, Washington, DC 20210 (202) 693-2867 (this is not a toll free number).

Eric M. Seleznow,
Acting Assistant Secretary for Employment and Training, Labor.

[FR Doc. 2014-09194 Filed 4-22-14; 8:45 am]

BILLING CODE 4510-FT-P